DEPARTMENT OF COMMERCE

National Oceanic and Atmospheric Administration

[I.D. 102306B]

Marine Mammals; File No. 116-1843

AGENCY: National Marine Fisheries Service (NMFS), National Oceanic and Atmospheric Administration (NOAA), Commerce.

ACTION: Notice; issuance of permit.

SUMMARY: Notice is hereby given that Sea World, Inc., 7007 Sea World Drive, Orlando, Florida 32821 [Brad Andrews, Responsible Party] has been issued a permit to import three beluga whales (Delphinapterus leucas) for public display.

ADDRESSES: The permit and related documents are available for review upon written request or by appointment in the following office(s):

Permits, Conservation and Education Division, Office of Protected Resources, NMFS, 1315 East-West Highway, Room 13705, Silver Spring, MD 20910; phone (301)713-2289; fax (301)427-2521; and

Southeast Region, NMFS, 263 13th Avenue South, Saint Petersburg, Florida 33701; phone (727)824-5312; fax (727)824-5309.

FOR FURTHER INFORMATION CONTACT: Jennifer Skidmore or Kate Swails, (301)713-2289.

SUPPLEMENTARY INFORMATION: On June 8, 2006, notice was published in the Federal Register (71 FR 33281) that a request for a public display permit to import three male beluga whales from Marineland of Canada in Ontario, Canada to Sea World of Florida in Orlando, Florida had been submitted by the above-named organization. The requested permit has been issued under the authority of the Marine Mammal Protection Act of 1972, as amended (16 U.S.C. 1361 et seq.), the Regulations Governing the Taking and Importing of Marine Mammals (50 CFR part 216).

In compliance with the National Environmental Policy Act of 1969 (42 U.S.C. 4321 et seq.), an environmental assessment was prepared analyzing the effects of the permitted activities. After a Finding of No Significant Impact, the determination was made that it was not necessary to prepare an environmental impact statement.

Dated: November 14, 2006.
P. Michael Payne,
Chief, Permits, Conservation and Education Division, Office of Protected Resources, National Marine Fisheries Service.

[FR Doc. E6-19651 Filed 11-20-06; 8:45 am]

BILLING CODE 3510-22-S